DEPARTMENT OF ENERGY

Office of Energy Efficiency and Renewable Energy

10 CFR Part 420

[Docket No. EE-RM-96-402]

RIN 1904-AB01

State Energy Program

AGENCY: Office of Energy Efficiency and Renewable Energy, DOE.

ACTION: Final rule.

SUMMARY: Today the Department of Energy (DOE or Department) adopts an interim final rule published on August 24, 1999 revising the regulations for its State Energy Program. Because there were no comments received in response to the program's interim final rule, that rule is being adopted as a final rule without change.

EFFECTIVE DATE: May 31, 2000.

FOR FURTHER INFORMATION CONTACT: Thomas P. Stapp, Office of Building Technology, State and Community Programs, Department of Energy, Mail Stop 5E-080, EE-42, Forrestal Building, 1000 Independence Avenue, SW, Washington, DC 20585, (202) 586-2096.

SUPPLEMENTARY INFORMATION:

I. Introduction and Description of the Program

II. Review Under Executive Order 12866

III. Review Under Executive Order 12988

IV. Review Under Executive Order 13132

V. Review Under the Paperwork Reduction Act

VI. Review Under the National Environmental Policy Act

VII. Review Under the Small Business Regulatory Enforcement Fairness Act of 1996

VIII. Review Under the Unfunded Mandates Reform Act of 1995

IX. Review Under the Regulatory Flexibility Act

X. The Catalog of Federal Domestic Assistance

I. Introduction and Description of the Program

On August 24, 1999, the Department published in the Federal Register an interim final rule (64 FR 46111) revising the regulations for its State Energy Program (SEP or program). This rule provides for the possibility of certain activities being funded under the Special Projects part of the program that are not permitted under the formula grant part of the program. The rule also provides for the specification of any Special Projects funding limitations by the sector specific program offices providing the Special Projects funding, and clarifies the applicability of Subpart B to the formula grant part of the program and of Subpart C to the Special Projects part of the program.

The program provides formula grants to States for a wide variety of energy efficiency and renewable energy initiatives, and, in years when funding is available, may also offer financial assistance for a number of State-oriented competitively awarded Special Projects activities with funding contributed by the Office of Energy Efficiency and Renewable Energy's End-Use Sector Programs. Special Projects have been funded in every fiscal year since SEP was established in 1996. DOE expects the Special Projects part of SEP to continue in future years.

Among the goals of the SEP Special Projects activities are to assist States to: accelerate deployment of energy efficiency and renewable energy technologies; facilitate the acceptance of emerging and under utilized energy efficiency and renewable energy technologies; and increase the responsiveness of Federally funded technology development efforts to private sector needs.

The interim final rule published on August 24, 1999 announced a 30-day public comment period that closed on September 23, 1999. We received no comments regarding the changes made under 10 CFR part 420, and those changes are made final. Therefore, this rule is adopted as it was published in the program's interim rule on August 24, 1999 (64 FR 46111).

II. Review Under Executive Order 12866

Today's regulatory action has been determined not to be a significant regulatory action under Executive Order 12866, “Regulatory Planning and Review,” 58 FR 51735 (October 4, 1993). Accordingly, this action was not subject to review under the Executive Order by the Office of Information and Regulatory Affairs (OIRA).

III. Review Under Executive Order 12988

Section 3 of Executive Order 12988, 61 FR 4729 (February 7, 1996), instructs each agency to adhere to certain requirements in promulgating new regulations. These requirements, set forth in Section 3(a) and (b), include eliminating drafting errors and needless ambiguity, drafting the regulations to minimize litigation, providing clear and certain legal standards for affected legal conduct, and promoting simplification and burden reduction. Agencies are also instructed to make every reasonable effort to ensure that the regulation describes any administrative proceeding to be available prior to judicial review and any provisions for the exhaustion of administrative remedies. The Department has determined that today's regulatory action meets the requirements of Section 3(a) and (b) of Executive Order 12988.

IV. Review Under Executive Order 13132

Executive Order 13132 (64 FR 43255, August 4, 1999) imposes certain requirements on agencies formulating and implementing policies or regulations that preempt State law or that have federalism implications. Agencies are required to examine the constitutional and statutory authority supporting any action that would limit the policymaking discretion of the States and carefully assess the necessity for such actions. DOE has examined today's rule and has determined that it does not preempt State law and does not have a substantial direct effect on the States, on the relationship between the national government and the States, or on the distribution of power and responsibilities among the various levels of government. No further action is required by Executive Order 13132.

V. Review Under the Paperwork Reduction Act

No new information collection or record keeping requirements are imposed on the public by today's rules.

VI. Review Under the National Environmental Policy Act

A programmatic environmental assessment has been prepared covering the grant program under the final rule published today which was sent to the States for comment on March 27, 1996. No comments were received by the end of the 14-day comment period. This programmatic environmental assessment resulted in a finding of no significant impact (FONSI). A FONSI was issued on June 7, 1996. The documents relating to this programmatic environmental assessment are available in the DOE Freedom of Information Reading Room, United States Department of Energy, Room 1E-190, Forrestal Building, 1000 Independence Avenue, SW, Washington, DC 20585, (202) 586-3142.

VII. Review Under the Small Business Regulatory Enforcement Fairness Act of 1996

The final rule published today is subject to the Congressional notification requirements of the Small Business Regulatory Enforcement Fairness Act of 1996 (Act), 5 U.S.C. 801. DOE will report to Congress on the promulgation of the final rule prior to the effective date set forth at the beginning of this notice.

VIII. Review Under the Unfunded Mandates Reform Act 1995

The Unfunded Mandates Reform Act of 1995 (Pub. L. 104-4) places a variety of review and consultative obligations on Federal agencies proposing regulatory actions for Federal intergovernmental mandates. Today's rule does not involve such a mandate because the Unfunded Mandates Reform Act excludes from the definition of “Federal intergovernmental mandate” provisions in a regulation that would impose conditions incident to a financial assistance program (not involving an entitlement) or a duty arising from participation in a voluntary Federal program 2 U.S.C. 658(5). This program is a standard non-entitlement financial assistance program and States are not obligated to participate in it.

IX. Review Under the Regulatory Flexibility Act

The regulatory flexibility analysis requirements in the Regulatory Flexibility Act, 5 U.S.C 601 et seq., do not apply to this final rule because a general notice of proposed rulemaking was not required by law.

X. The Catalog of Federal Domestic Assistance

The Catalog of Federal Domestic Assistance number for the State Energy Program is 81.041. The Catalog of Federal Domestic Assistance number for the State Energy Program Special Projects is 81.119.

List of Subjects in 10 CFR Part 420

Energy conservation, Grant programs—energy, Incorporation by reference, Reporting and record keeping requirements, Technical assistance.

Issued in Washington, DC, on April 25, 2000.
Dan W. Reicher,
Assistant Secretary, Energy Efficiency and Renewable Energy.

Accordingly, the interim rule amending 10 CFR part 420 which was published at 64 FR 46111 on August 24, 1999 is adopted as a final rule without change.

[FR Doc. 00-10753 Filed 4-28-00; 8:45 am]

BILLING CODE 6450-01-P